DEPARTMENT OF ENERGY

10 CFR Part 430

[Docket No. EERE-2008-BT-STD-0012]

RIN 1904-AB80

Energy Conservation Standards for Residential Refrigerators, Refrigerator-Freezers, and Freezers: Public Meeting and Availability of the Framework Document

AGENCY: Office of Energy Efficiency and Renewable Energy, Department of Energy.

ACTION: Notice of public meeting and availability of the framework document.

SUMMARY: DOE will hold an informal public meeting to discuss and receive comments on issues that it will address in this rulemaking proceeding. The Department is also initiating data collection for establishing energy conservation standards for residential refrigerators, refrigerator-freezers, and freezers. The Department also encourages written comments on these subjects. To inform stakeholders and facilitate this process, DOE has prepared a draft framework document, available at http://www1.eere.energy.gov/buildings/appliance_standards/residential/refrigerators_freezers.html.

DATES: The Department will hold a public meeting on Monday, September 29, 2008, from 9 a.m. to 5 p.m. in Washington, DC. Any person requesting to speak at the public meeting should submit such request along with a signed original and an electronic copy of the statements to be given at the public meeting before 4 p.m., Monday, September 22, 2008. Written comments are welcome, especially following the public meeting, and should be submitted by October 20, 2008.

ADDRESSES: The public meeting will be held at the U.S. Department of Energy, Forrestal Building, Room 8E-089, 1000 Independence Avenue, SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed.

Stakeholders may submit comments, identified by docket number EERE-2008-BT-STD-0012 and/or Regulation Identifier Number (RIN) 1904-AB80, by any of the following methods:

• Federal eRulemaking Portal: http://www.regulations.gov. Follow the instructions for submitting comments.

• E-mail: ResRefFreez-2008-STD-0012@hq.doe.gov. Include EERE-2008-BT-STD-0012 and/or RIN 1904-AB80 in the subject line of the message.

• Mail: Ms. Brenda Edwards, U.S. Department of Energy, Building Technologies Program, Mailstop EE-2J, Framework Document for Refrigerators, Refrigerator-Freezers, and Freezers, EERE-2008-BT-STD-0012 and/or RIN 1904-AB80, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number or RIN for this rulemaking.

Docket: For access to the docket to read background documents, a copy of the transcript of the public meeting, or comments received, go to the U.S. Department of Energy, 6th Floor, 950 L'Enfant Plaza, SW., Washington, DC 20024, between 9 a.m. and 4 p.m., Monday through Friday, except Federal holidays. For additional information about visiting the Resource Room, please call Ms. Brenda Edwards at (202) 586-2945. Please note that the Department's Freedom of Information Reading Room (formerly Room 1E-190 at the Forrestal Building) no longer houses rulemaking materials.

FOR FURTHER INFORMATION CONTACT: (1) Stephen Witkowski, U.S. Department of Energy, Office of Energy Efficiency and Renewable Energy, Building Technologies, EE-2J, 1000 Independence Avenue, SW., Washington, DC 20585-0121. Phone: (202) 586-7463. e-mail: stephen.witkowski@ee.doe.gov. (2) Michael Kido, U.S. Department of Energy, Office of General Counsel, GC-72, 1000 Independence Avenue, SW., Washington, DC 20585-0121. Phone: (202) 586-9507. e-mail: michael.kido@hq.doe.gov.

SUPPLEMENTARY INFORMATION: Part A of Title III of the Energy Policy and Conservation Act of 1975 (EPCA), 42 U.S.C 6291 et seq. , established an energy conservation program for major household appliances, which includes residential refrigerators, refrigerator-freezers, and freezers. This program authorizes the Department to establish technologically feasible, economically justified energy efficiency regulations for certain consumer products for which such regulations would incur substantial national energy savings, and for which both natural market forces and voluntary labeling programs have been and/or are expected to be ineffective in promoting energy efficiency.

The amendments to EPCA in the National Appliance Energy Conservation Act of 1987 (NAECA), Public Law 100-12, established energy conservation standards for refrigerators, refrigerator-freezers, and freezers, as well as requirements for determining whether these standards should be amended. (42 U.S.C. 6295(b))

EPCA, as amended by NAECA, established performance standards for residential refrigerators, refrigerator-freezers, and freezers and required that DOE conduct two cycles of rulemakings to determine whether more stringent standards are justified. (42 U.S.C. 6295 (b)) On November 17, 1989, DOE published a final rule in the Federal Register updating the performance standards. The new standards became effective on January 1, 1993. 54 FR 47916. Subsequently, DOE determined that new standards for some of the product classes were based on incomplete data and incorrect analysis. As a result, DOE published a correction that amended the new standards for the following three product classes: (1) Refrigerators and refrigerator-freezers with manual defrost, (2) refrigerator-freezers with automatic defrost with a bottom-mounted freezer but without through-the-door (TTD) ice service, and (3) chest freezers and all other freezers. 55 FR 42845. DOE updated the performance standards once again for refrigerators, refrigerator-freezers, and freezers by publishing a final rule in the Federal Register on April 28, 1997. 62 FR 23102. The new standards became effective on July 1, 2001. By completing a second standards rulemaking, DOE had fulfilled its legislative requirement to conduct two cycles of standards rulemakings.

Stakeholders submitted a petition in 2004 requesting that DOE conduct another rulemaking to amend the standards for residential refrigerator-freezers. In April 2005, DOE granted the petition and conducted a limited set of analyses to assess the potential energy savings and potential economic benefit of new standards. DOE issued a report in October 2005 detailing the analyses, which examined the technological and economic feasibility of new standards set at Energy Star levels effective in 2005 for the two most popular product classes of refrigerators: Top-mount refrigerator-freezers without TTD features and side-mount refrigerator-freezers with TTD features. DOE confined its updated analysis to these two classes because they accounted for a majority of current product shipments. Depending on assumptions regarding the impact that standards would have on market efficiency, DOE estimated that amended standards at the 2005 Energy Star levels would yield between 2.4 to 3.4 quadrillion British thermal units (Btu), with an associated economic impact to the Nation ranging from a burden or cost of $1.2 billion to a benefit or savings of $3.3 billion.

In October 2005, DOE published draft data sheets containing energy savings potentials for refrigerator-freezers as part of its fiscal year 2006 schedule-setting process. The data sheets were based on the October 2005 draft technical report analyzing potential new amended energy conservation standards for residential refrigerator-freezers described above. The analysis was not extended to all refrigerator, refrigerator-freezer, and freezer product classes because of the large proportion of the market represented by the two product classes analyzed in detail and because DOE expected that results for these product classes would be representative for all of the product classes. The technical report and the associated data sheets provided input to the setting of priorities for rulemakings activities. Other products were given a higher priority, and limited rulemaking work on refrigerators and freezers was carried out in the following years prior to the enactment of EISA.

EISA, signed into law on December 19, 2007, requires DOE to publish a final rule by December 31, 2010, to determine whether to amend the standards in effect for refrigerators, refrigerator-freezers, and freezers manufactured on or after January 1, 2014. DOE is embarking on a standards rulemaking for these products to comply with EISA requirements. To begin the required rulemaking process, the Department prepared the framework document to explain the issues, analyses, and process that it is considering for the development of energy efficiency standards for refrigerators, refrigerator-freezers, and freezers. The public meeting will focus on analyses and issues contained in various sections of the framework document. For each item listed, the Department will make a presentation with discussion to follow. The Department will also make a brief presentation on the rulemaking process for these products.

The Department encourages anyone who wishes to participate in the public meeting to obtain the framework document and to be prepared to discuss its contents. A copy of the draft framework document is available at http://www1.eere.energy.gov/buildings/appliance_standards/residential/refrigerators_freezers.html. However, public meeting participants need not limit their comments to the topics identified in the framework document. The Department is also interested in receiving views on other relevant issues that participants believe would affect energy conservation standards for these products. The Department welcomes all interested parties, whether or not they participate in the public meeting, to submit in writing by October 20, 2008, comments and information on matters addressed in the framework document and on other matters relevant to consideration of standards for refrigerators, refrigerator-freezers, and freezers.

DOE will conduct the public meeting in an informal, conference style. A court reporter will record the minutes of the meeting. The discussion will not include proprietary information, costs or prices, market shares, or other commercial matters regulated by U.S. antitrust laws.

After the public meeting and the expiration of the period for submitting written statements, the Department will begin collecting data, conducting the analyses as discussed at the public meeting, and reviewing public comments.

Anyone who wishes to participate in the public meeting, receive meeting materials, or be added to the DOE mailing list to receive future notices and information about residential refrigerators, refrigerator-freezers, and freezers should contact Ms. Brenda Edwards at (202) 586-2945.

Issued in Washington, DC, on September 12, 2008.
John F. Mizroch,
Acting Assistant Secretary, Energy Efficiency and Renewable Energy.

[FR Doc. E8-21821 Filed 9-17-08; 8:45 am]

BILLING CODE 6450-01-P